DEPARTMENT OF STATE

[Public Notice 9906]

Cultural Property Advisory Committee; Notice of Meeting

AGENCY: Department of State.

ACTION: Notice of meeting and request for comment from outside parties.

SUMMARY: The Department of State is issuing this notice to announce the location, date, time and agenda for the next meeting of the Cultural Property Advisory Committee.

DATES:

• Written Comments: Must be received no later than March 20, 2017, at 11:59 p.m. (ET).

• Open Session: March 21, 2017, 9:00 a.m. (EDT).

• Closed Session: March 21-March 24, 2017.

ADDRESSES: The open meeting will be held at the U.S. Department of State, SA-5 (American Pharmacists Association building), 2200 C St. NW., Washington, DC.

Methods of written comment submission are as follows:

• Web: Persons with access to the Internet may comment by going to http://www.regulations.gov, entering the docket DOS-2017-0011, and following the prompts to submit comments.

• Regular Mail: Only send written comments that contain privileged or confidential information (within the meaning of 19 U.S.C. 2605(i)(1)) to: U.S. Department of State, Bureau of Educational and Cultural Affairs—Cultural Heritage Center, SA-5 Floor 5, 2200 C St. NW., Washington, DC 20522-0505.

FOR FURTHER INFORMATION CONTACT: To pre-register for the open session or for general questions concerning the meeting, contact the Bureau of Educational and Cultural Affairs—Cultural Heritage Center by phone: 202-632-6301, or email: CulProp@state.gov.

SUPPLEMENTARY INFORMATION: Pursuant to section 306(e)(2) of the Convention on Cultural Property Implementation Act (5 U.S.C. 2601 et seq.) (“the Act”), the Acting Assistant Secretary of State for Educational and Cultural Affairs calls a meeting of the Cultural Property Advisory Committee (”the Committee”). The Committee's responsibilities are carried out in accordance with provisions of the Act. The Acting Assistant Secretary has closed a portion of this meeting to the public pursuant to 5 U.S.C. 552b(c)(9)(B) and 19 U.S.C. 2605.

Meeting Agenda: During the closed portion of the meeting, the Committee will review the proposal to extend the Memorandum of Understanding Between the Government of United States of America and the Government of Belize Concerning the Imposition of Import Restrictions on Categories of Archaeological Material Representing the Cultural Heritage of Belize from the Pre-Ceramic (Approximately 9000 B.C.), Pre-Classic, Classic, and Post-Classic Periods of the Pre-Columbian Era through the Early and Late Colonial Periods. Also, during the closed portion of the meeting, the Committee will review the proposed extension of the Memorandum of Understanding Between the Government of the United States of America and the Government of the Republic of Guatemala Concerning the Imposition of Import Restrictions on Archaeological Material from the Pre-Columbian Cultures and Ecclesiastical Ethnological Material from the Conquest and Colonial Periods of Guatemala. Also, during the closed portion of the meeting, the Committee will review the proposed extension of the Agreement Between the Government of United States of America and the Government of the Republic of Mali Concerning the Imposition of Import Restrictions on Archaeological Material from Mali from the Paleolithic Era (Stone Age) to Approximately the Mid-Eighteenth Century.

Open Session Attendance: An open portion of the meeting to receive oral public comments on the proposals to extend the Belize MOU, Guatemala MOU, and Mali Agreement will be held Tuesday, March 21, 2017, beginning at 9:00 a.m. (EDT). The text of the Act and the MOUs and Agreement, as well as related information, may be found at http://culturalheritage.state.gov.

If you wish to attend the open portion of the meeting of the Committee on March 21, 2017, registration is required. Please notify the Cultural Heritage Center of the U.S. Department of State at (202) 632-6301 no later than 5:00 p.m. (EDT) March 20, 2017, to arrange for admission. Seating is limited. When calling, please request reasonable accommodation if needed. The open portion will be held at the U.S. Department of State, SA-5 (American Pharmacists Association building), 2200 C St. NW., Washington, DC 20037. Please enter using the C Street entrance, and plan to present a valid photo ID and arrive 30 minutes before the beginning of the open session.

Personal information regarding attendees is requested pursuant to the Omnibus Diplomatic Security and Antiterrorism Act of 1986, as amended (Pub. L. 99-399), the USA PATRIOT Act (Pub. L. 107-56), and Executive Order 13356. The purpose of the collection is to validate the identity of individuals who enter Department facilities. The data will be entered into the Visitor Access Control System (VACS-D) database. Please see the Security Records System of Records Notice (State-36) at https://foia.state.gov/_docs/SORN/State-36.pdf for additional information.

If you wish to make an oral presentation at the open portion of the meeting, you must request to be scheduled by the above-mentioned date and time, and you must submit a written summary of your oral presentation, ensuring that it is received no later than March 20, 2017, at 11:59 p.m. (ET), via the Federal Register Web site listed in the ADDRESSES section above to allow time for distribution to members of the Committee prior to the meeting. Oral comments will be limited to five (5) minutes to allow time for questions from members of the Committee. All oral comments must relate specifically to matters referred to in 19 U.S.C. 2602(a)(1), with respect to which the Committee makes its findings and recommendations.

Written Comments: If you do not wish to make oral comments but still wish to make your views known, you may submit written comments for the Committee to consider. Written comments from outside parties regarding the proposed extensions of the Belize MOU, Guatemala MOU, and/or Mali Agreement must be received no later than March 20, 2017, at 11:59 p.m. (ET). Your written comments should relate specifically to the matters referred to in 19 U.S.C. 2602(a)(1).

This announcement will appear in the Federal Register less than 15 days prior to the meeting. The Department of State finds that there is an exceptional circumstance in that delegations from Belize and the Republic of Guatemala are scheduled to make presentations to the Committee concerning their respective agreements during the closed session; therefore, this meeting must convene beginning on March 21 for the open session.

Mark Taplin,
Acting Assistant Secretary, Bureau of Educational and Cultural Affairs, U.S. Department of State.

[FR Doc. 2017-05147 Filed 3-14-17; 8:45 am]

BILLING CODE 4710-05-P